ENVIRONMENTAL PROTECTION AGENCY

40 CFR Part 300

[EPA-HQ-SFUND-1983-0002, Notice 4; FRL-8579-4]

National Oil and Hazardous Substances Pollution Contingency Plan; National Priorities List Update

AGENCY: Environmental Protection Agency.

ACTION: Direct Final Notice of Deletion of the Old Inger Oil Refinery, Superfund site from the National Priorities List.

SUMMARY: The Environmental Protection Agency (EPA) Region 6 is publishing a direct final Notice of Deletion of the Old Inger Oil Refinery Site (Site) located in Ascension Parish, Louisiana from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Louisiana, through the Louisiana Department of Environmental Quality (LDEQ), because EPA has determined that all appropriate response actions under CERCLA, other than operation and maintenance and five-year reviews, have been completed. However, this deletion does not preclude future actions under Superfund.

DATES: This direct final deletion will be effective August 12, 2008 unless EPA receives adverse comments by July 14, 2008. If adverse comments are received, EPA will publish a timely withdrawal of the direct final deletion in the Federal Register informing the public that the deletion will not take effect.

ADDRESSES: Submit your comments, identified by Docket ID no. EPA-HQ-SFUND-1983-0002, Notice 4, by one of the following methods:

• http://www.regulations.gov (Follow on-line instructions for submitting comments).

• E-mail: coats.janetta@epa.gov.

• Fax: 214-665-6660.

• Mail: Janetta Coats, Community Involvement, U.S. EPA Region 6 (6SF-TS), 1445 Ross Avenue, Dallas, TX 75202-2733, (214) 665-7308 or 1-800-533-3508.

Instructions: Direct your comments to Docket ID No. EPA-HQ-SFUND-1983-0002, Notice 4. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at the following information repositories:

U.S. EPA Online Library System at http://www.epa.gov/natlibra/ols.htm;

U.S. EPA Region 6, 1445 Ross Avenue, Suite 700, Dallas, Texas 75202-2733, (214) 665-6617, by appointment only Monday through Friday 9 a.m. to 12 p.m. and 1 p.m. to 4 p.m.

Louisiana Department of Environmental Quality, Public Records Center, Galvez Building, 1st Floor, 602 N. Fifth Street, Baton Rouge, Louisiana, Monday through Friday 8 a.m. to 4:30 p.m.

FOR FURTHER INFORMATION CONTACT: Bartolome Canellas (6SF-RL), Remedial Project Manager, U.S. Environmental Protection Agency, Region 6, U.S. EPA, 1445 Ross Avenue, Dallas, Texas 75202, (214) 665-6662 or 1-800-533-3508 or canellas.bart@epa.gov.

SUPPLEMENTARY INFORMATION:

Table of Contents

I. Introduction

II. NPL Deletion Criteria

III. Deletion Procedures

IV. Basis for Site Deletion

V. Deletion Action

I. Introduction

The EPA Region 6 office is publishing this direct final Notice of Deletion of the Old Inger Oil Refinery Site, near Darrow, Ascension Parish, Louisiana from the NPL. The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as a list of sites that appear to present a significant risk to public health, welfare, or the environment. Sites on the NPL may be the subject of remedial actions financed by the Hazardous Substance Superfund (Fund). As described in 300.425(e) (3) of the NCP, sites deleted from the NPL remain eligible for remedial actions if conditions at the deleted sites warrant such actions.

Because EPA considers this action to be noncontroversial and routine, EPA is taking it without prior publication of a notice of intent to delete. This action will be effectiveAugust 12, 2008 unless EPA receives adverse comments by July 14, 2008. Along with the direct final Notice of Deletion, EPA is co-publishing a Notice of Intent to Delete in the “Proposed Rules” section of the Federal Register. If adverse comments are received within the 30-day public comment period on this document, EPA will publish a timely withdrawal of this direct final deletion before the effective date of the deletion, and the deletion will not take effect. EPA will, as appropriate, prepare a response to comments and continue with the deletion process on the basis of the Notice of Intent to Delete and the comments already received. There will be no additional opportunity to comment.

Section II of this notice explains the criteria for deleting sites from the NPL. Section III discusses procedures that EPA is using for this action. Section IV discusses the Old Inger Refinery Site and explains how the Site meets the deletion criteria. Section V discusses EPA's actions to delete the Site from the NPL unless adverse comments are received during the public comment period.

II. NPL Deletion Criteria

The NCP establishes the criteria that EPA uses to delete sites from the NPL. In accordance with 40 CFR 300.425(e), sites may be deleted from the NPL where no further response is appropriate to protect public health and the environment. In making such a determination pursuant to 40 CFR 300.425(e), EPA will consider, in consultation with the state, whether the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Pursuant to CERCLA section 121 (c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the state of Oklahoma prior to developing this direct final Notice of Deletion and the Notice of Intent to Delete co-published today in the “Proposed Rules” section of the Federal Register.

(2) EPA has provided the state 30 working days for review of this notice and the parallel Notice of Intent to Delete prior to their publication today, and the state, through the Oklahoma Department of Environmental Quality, has concurred on the deletion of the Site from the NPL.

(3) Concurrent with the publication of this direct final Notice of Deletion, a notice of availability is being published in the Ascension Citizen and is being distributed to appropriate federal, state and local government officials and other interested parties. The newspaper notice announces the 30-day public comment period concerning the Notice of Intent to Delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management of Superfund sites. As mentioned in section II of this document, section 300.425(e)(3) of the NCP states that the deletion of a site from the NPL does not preclude eligibility for future response actions, should future conditions warrant such actions.

IV. Basis for Site Deletion

The following information provides EPA's rationale for deleting the Site from the NPL:

Site Background and History

The Site is located approximately 4.5 miles north of Darrow, Ascension Parish, Louisiana on the east bank of the Mississippi River on Highway 75. The Site extends over approximately 16 acres and is bounded to the north by the Louisiana Highway 75, the levees of the Mississippi River to the south and to the east and west by vacant lots.

The Site is a former waste oil reclamation facility that began operation in 1967. During operations lagoons were used for disposal of waste sludges and oils. Periodically, the materials in the lagoons were pumped into the adjacent swamps to maintain storage capacity. Some of the Site problems included a large spill during unloading of used oil from a barge, tanks overfilling, and drums and construction debris being buried in lagoons. After the major spill in 1978, the property changed ownership. The new owners had intended to clean up the Site, but abandoned it in 1980.

From April 1983 through August 1988, five emergency removal actions were conducted to stabilize the Site including: Site security, migration control, excavation and containment of consolidated soils, sampling and analysis. These immediate actions reduced the potential for contact with Site contamination and the farther spread of contaminated materials to make the Site safer while long-term cleanup activities proceeded.

Remedial Investigation and Feasibility Study (RI/FS)

Investigations by both the EPA and LDEQ revealed the presence of contaminated waste oils, sludges, sediments, and water. From the investigations, it was determined that the types and concentrations of contaminants at the Site posed a potential hazard to human health and the environment. The Site was subsequently placed on the National Priorities List for remediation under CERCLA as the State's highest priority site.

Record of Decision Findings

The EPA, with concurrence from the State of Louisiana, signed the ROD on September 25, 1984. The major components of the selected remedy included:

• Closing and sealing of an ungrouted on-site well.

• Pumping and treatment of the shallow ground water aquifer via carbon adsorption.

• Carbon adsorption treatment and discharge of contaminated fluids.

• In situ containment and capping of slightly contaminated soils.

• On-site land treatment of heavily contaminated soils and sludges.

• Disposal of contaminated wood.

• Land Use Restrictions.

Remedial activities were implemented in phases.

The initial phase started in 1990 and was completed in 1992. During this phase, contaminated liquids and sludges were removed from the surface impoundment, and the wastewater treatment plant and the on-site land treatment unit were constructed.

A second phase was started in 1998 and completed in 2002. During this phase, contaminated soils were excavated, treated in the land treatment unit returned back to the excavation. Approximately 15,712,300 gallons of water were treated in the treatment plant; approximately 63,398 tons of soils were excavated and treated; the Site was graded and approximately 40,000 cubic yards of clay and 24,800 cubic yards of topsoil were applied to build a cap.

The final phase of remedial work involved the evaluation of the shallow groundwater. A network of monitoring wells was installed and a quarterly sampling and evaluation program was instituted to run for a period of two years.

In summary, the Site was remediated by removing the impoundments, tanks, associated refinery equipment and debris. Contaminated soils were treated by on-site bioremediation of the affected media in a land treatment unit, capped with a clay cap and revegetated with a topsoil layer and native grasses. Finally, the shallow ground water was investigated and no unacceptable risks were identified.

The Institutional Controls (ICs) at the Site include a lien on the property for the amount of the remedial costs, which shows that the property has contaminants, and has been subject to a remedial action; and a notice in the mortgage and conveyance records stating that residual contaminant concentrations remain at the Site but are below established remedial standards.

The EPA, with concurrence from the State of Louisiana, signed an Explanation of Significant Difference on September 12, 2006. This document explains why closing an onsite well, and further pumping and treatment of ground water, were not implemented after other remedial activities were implemented.

A Final Close Out Report was signed on September 12, 2006.

Characterization of Risk

The 1984 ROD identified that the most significant risk levels to public health and the environment were generated by the heavily contaminated soils and sludges and present a risk of migration of contaminated ground water and contaminating offsite drainageways.

Response Actions

EPA Region 6 and the State of Louisiana agree that carbon adsorption and discharge off site of contaminated fluids and land treatment for heavily contaminated soils and sludges were alternatives which effectively mitigated and minimized the most immediate risks to public health and the environment and limited future risk of the migration of contaminated ground water.

Cleanup Standards

Residual waste left in place does not allow for “unlimited use and unrestricted exposure (uu/ue).” Residual contaminant concentrations remain at the Site but are below established remedial standards. As indicated above, ground water monitoring was conducted quarterly for two years to confirm that shallow ground water does not represent an unacceptable risk and meets the requirements of the State under the Louisiana Risk Evaluation and Corrective Action Program (RECAP).

Operation and Maintenance

Long term O&M activities will be to maintain the cap and to ensure the fencing remains intact and secure. Activities conducted by the State include periodic mowing and tracking the maintenance of the Site cap, and the continuation of Five-Year reviews to be conducted by the EPA every five years.

Five-Year Review

The threshold for Five-Years Reviews is unlimited use/unrestricted exposure. Future Five-Year Reviews will continue to monitor the maintenance of the ICs, and the limited use of the Site at the toe of the Mississippi River levee, to ensure protection of human health and the environment. The most recent Five-Year Review was completed on July 23, 2007.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Louisiana, has determined that all appropriate responses under CERCLA have been completed, and that no further response actions under CERCLA, other than O&M and five-year reviews, are necessary. Therefore, EPA is deleting the Site from the NPL.

Because EPA considers this action to be noncontroversial and routine, EPA is taking it without prior publication. This action will be effective August 12, 2008 unless EPA receives adverse comments by July 14, 2008. If adverse comments are received within the 30-day public comment period, EPA will publish a timely withdrawal of this direct final notice of deletion before the effective date of the deletion and it will not take effect, and EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: May 22, 2008.
Richard E. Greene,
Regional Administrator, Region 6.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to part 300 is amended under Louisiana (“LA”) by removing the entry for “Old Inger Oil Refinery” in “Darrow, Louisiana”.

[FR Doc. E8-13367 Filed 6-12-08; 8:45 am]

BILLING CODE 6560-50-P